DEPARTMENT OF THE INTERIOR

National Park Service

36 CFR Part 7

Establishment of Negotiated Rulemaking Advisory Committee for Off-Road Vehicle Management, Cape Hatteras National Seashore; Correction

AGENCY: National Park Service.

ACTION: Proposed rule; correction.

SUMMARY: The National Park Service published a document in the Federal Register of December 20, 2007, concerning the establishment of the Negotiated Rulemaking Advisory Committee for Off-Road Vehicle Management, Cape Hatteras National Seashore. The document contained an incorrect organizational affiliation for Ronald Bounds.

FOR FURTHER INFORMATION CONTACT: Mike Murray, Superintendent, Outer Banks Group, 1401 National Park Drive, Manteo, North Carolina 27952, (252) 473-2111, ext. 148.

Correction

In the Federal Register of December 20, 2007, in FR Doc. 07-6152, on page 72318, in the third column, correct the first paragraph to read:

30. Recreational Fishing Alliance, member Patrick Paquette, alternate Ronald Bounds (United Mobile Sportfishermen).

Dated: January 7, 2008.
Daniel N. Wenk,
Deputy Director.

[FR Doc. E8-529 Filed 1-14-08; 8:45 am]

BILLING CODE 4310-X6-P